DEPARTMENT OF TRANSPORTATION

Maritime Administration

[Docket No. MARAD-2000-7247]

Request for Public Comments on an Evaluation of the Maritime Security Program/Voluntary Intermodal Sealift Agreement Program

AGENCY: Maritime Administration, United States Department of Transportation.

ACTION: Notification of open docket for public comment.

SUMMARY: The Maritime Administration (MARAD) is assessing the impact of the Maritime Security Program (MSP) and its associated Emergency Preparedness Program (EPP), the Voluntary Intermodal Sealift (VISA) program. The evaluation will seek to determine the contribution of MSP/VISA to the achievement of Department of Transportation (DOT) and MARAD national security goals by identifying the causal relationship between MSP/VISA and the goals, to the extent that causality can be reliably measured. As part of DOT's implementation of the Government Performance and Results Act, MARAD has been investigating in-depth how well its major programs are working to achieve stated objectives. As set out in DOT and MARAD strategic plans to meet U.S. national security goals, the MSP is designed to help ensure that an active U.S. merchant fleet—and the trained personnel needed to operate both privately-owned active commercial vessels and Government-owned and controlled reserve ships—will be available to meet Department of Defense (DoD) requirements for sealift during national emergencies. In FY 2000, these requirements include DoD access to 165,000 TEUs (20-foot equivalent units of container capacity) or 14.5 million square feet of U.S.-flag commercial vessel capacity and to carriers' intermodal transportation equipment and service networks.

FOR FURTHER INFORMATION CONTACT: Raymond R. Barberesi, Director, Office of Sealift Support, MAR-630, Room 7307, Maritime Administration, 400 Seventh Street, SW, Washington, D.C. 20590, telephone number: 202-366-2323 or fax 202-493-2180.

SUPPLEMENTARY INFORMATION: On March 10, 1995, the Administration submitted legislation to the Congress proposing the MSP and the EPP, based on its analysis of current and future national security sealift requirements and the likely composition of the privately-owned U.S.-flag merchant fleet. The Congress found that, “Without remedial action, there simply will be no U.S. fleet to conduct foreign commerce, and the United States may have difficulty manning our Ready Reserve Force (RRF) and will have to rely on foreign-flag shipping for all imports and exports and for the sustainment of future military operations” (Senate Report 104-167). Public Law (P.L.) 104-239, the Maritime Security Act of 1996, was enacted on October 8, 1996, to “assure the continued presence of an active, privately owned, U.S.-flag and U.S.-crewed merchant shipping fleet to meet national and foreign commerce needs and to provide sustainment sealift capability in time of war or national emergency.” P.L. 104-239 establishes the MSP fleet “* * * of active, militarily useful, privately-owned vessels to meet national defense and other security requirements and maintain a United States presence in international commercial shipping.”

As authorized through FY 2005, the MSP provides financial assistance to vessel operators to partially offset the higher costs of U.S.-flag operation in international trade. In return, MSP participants must commit enrolled vessels and associated intermodal resources to a DoD-approved EPP. The VISA program is the element of the MSP which assures DoD access to the U.S. commercial fleet by providing intermodal sealift and total logistical support to DoD in a time of war, national emergency, or whenever the Secretary of Defense determines it is necessary for national security. The VISA program enables DoD to secure space to transport military supplies and equipment. Today, MSP vessels constitute the vast majority (70 percent) of VISA sealift capacity.

MARAD is seeking empirical information from vessel operators and other affected parties in the maritime and transportation industries, such as shippers, maritime labor, DoD and other Federal agencies to assess the MSP's impact on DoD sealift capability and the U.S. merchant fleet. Information is requested on the following issues: (1) Whether the MSP and the VISA programs have accomplished the goals of “ensuring the availability of a U.S. maritime fleet for wartime or national emergencies and * * * to retain a pool of qualified mariners to serve on these vessels”; (2) The effectiveness of the MSP as a mechanism to retain vessels under U.S. registry; (3) The effect of the MSP's fixed financial assistance of $2.1 million per ship annually on the international competitiveness of MSP carriers; (4) The impact of the MSP payment as an economic incentive for carriers to replace existing vessels with newer ships; (5) Whether other factors have greater impact on carriers' fleet replacement decisions, and, if so, what these are; (6) The aspects of the MSP or VISA program that affect carriers' willingness to participate; (7) The appropriateness of the compensation levels for carriage of contingency cargoes; (8) The impact of statutory restrictions—i.e., Section 656 (cargo movements in domestic noncontiguous trade) and Section 804 (prohibition on operating competing foreign-flag vessels) of the Merchant Marine Act, 1936, as amended; the cap on the amount of cargo preference that can be carried on MSP vessels; the requirement to operate 320 days a year; Section 2 citizenship requirements, and trust arrangements; (9) The external factors that have a significant effect on program impact; (10) MSP participant plans if the MSP is not authorized beyond 2005; and (11) The aspects of program implementation that need to be changed to accomplish program objectives. MARAD is also soliciting comments as to whether other complementary programs, policies, or Federal Government actions would meet the statutory objectives of P.L. 104-239.

You may submit written comments by hand or mail by the close of business on June 15, 2000 to the Docket Management Facility, U.S. DOT Dockets, Room PL-401, Department of Transportation, 400 7th St., SW, Washington, DC 20590-0001. Comments should refer to docket number MARAD-2000-7247. You may also send comments electronically via the Internet at http://dmses.dot.gov/submit. All comments will become part of this docket and will be available for inspection and copying at the above address between 10 a.m. and 5 p.m., E.D.T., Monday through Friday, except federal holidays. An electronic version of this document and all documents entered into this docket is available on the World Wide Web at http://dms.dot.gov. The Maritime Administration, as a matter of discretion, will consider any comments submitted and take such action with respect thereto as may be deemed appropriate.

Dated: April 13, 2000.
By order of the Maritime Administrator.
Joel C. Richard,
Secretary.

[FR Doc. 00-9683 Filed 4-17-00; 8:45 am]

BILLING CODE 4910-81-P